ENVIRONMENTAL PROTECTION AGENCY

40 CFR Part 52

[EPA-R04-OAR-2016-0504; FRL-9964-09-Region 4]

Air Plan Approval; GA and SC: Changes to Ambient Air Standards and Definitions

AGENCY: Environmental Protection Agency.

ACTION: Direct final rule.

SUMMARY: The Environmental Protection Agency (EPA) is taking direct final action to approve a revision to the Georgia State Implementation Plan (SIP) submitted by the Georgia Department of Natural Resources, Environmental Protection Division (GA EPD), on August 30, 2010, and a portion of the SIP revision submitted on July 25, 2014; and portions of revisions to the South Carolina SIP, submitted by the Department of Health and Environmental Control (SC DHEC) on December 15, 2014, August 12, 2015, and on November 4, 2016. The Georgia SIP revisions incorporate definitions relating to fine particulate matter (PM2.5), and amend state rules to reflect the 2008 national ambient air quality standard (NAAQS) for lead. The South Carolina SIP revisions incorporate the 2010 sulfur dioxide (SO2) NAAQS, 2010 nitrogen dioxide (NO2) NAAQS, 2012 PM2.5 NAAQS, 2015 ozone NAAQS, removes the revoked 1997 8-hour ozone NAAQS, and remove the standard for gaseous fluorides from the SIP. This action is being taken pursuant to the Clean Air Act (CAA or Act).

DATES: This direct final rule is effective August 28, 2017 without further notice, unless EPA receives adverse comment by July 31, 2017. If EPA receives such comments, it will publish a timely withdrawal of the direct final rule in the Federal Register and inform the public that the rule will not take effect.

ADDRESSES: Submit your comments, identified by Docket ID No. EPA-R04-OAR-2016-0504 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: D. Brad Akers, Air Regulatory Management Section, Air Planning and Implementation Branch, Air, Pesticides and Toxics Management Division, U.S. Environmental Protection Agency, Region 4, 61 Forsyth Street SW., Atlanta, Georgia 30303-8960. Mr. Akers can be reached via telephone at (404) 562-9089 or via electronic mail at akers.brad@epa.gov.

SUPPLEMENTARY INFORMATION:

I. Background

Sections 108 and 109 of the CAA govern the establishment, review, and revision, as appropriate, of the NAAQS for the criteria air pollutants (CAPs) to protect public health and welfare. The CAA requires periodic review of the air quality criteria—the science upon which the standards are based—and the standards themselves. EPA's regulatory provisions that govern the NAAQS are found at 40 CFR part 50—National Primary and Secondary Ambient Air Quality Standards.

A. Summary of Actions for Georgia SIP Revisions

In this rulemaking, EPA is taking direct final action to approve the portion of Georgia's July 25, 2014, submission amending Georgia's regulations to incorporate the 2008 lead NAAQS, which is found at GA EPD Rule 391-3-1-.02(4), “Ambient Air Standards,” at regulation (f)1. EPA is also taking final action on Georgia's August 30, 2010, submittal incorporating definitions of PM2.5 and PM2.5 emissions.

Through this rulemaking, the Agency is not acting on the following changes to Georgia's SIP included in the July 25, 2014, submittal: Rule 391-3-1-.02(2)(a)—“General Provisions”; Rule 391-3-1-.02(2)(e)—“Particulate Emissions from Manufacturing Processes”; Rule 391-3-1-.02(2)(l)—“Conical Burners”; Rule 391-3-1-.02(2)(o)—“Cupola Furnaces for Metallurgical Melting”; Rule 391-3-1-.02(2)(p)—“Particulate Emissions from Kaolin and Fuller's Earth Processes”; Rule 391-3-1-.02(2)(q)—“Particulate Emissions from Cotton Gins”; Rule 391-3-1-.02(gg)—“Kraft Pulp Mills”; changes to Rule 391-3-1-.02(6)(a)—“Specific Monitoring and Reporting Requirements for Specific Sources”; or 391-3-1-.03(8)—“Permit Requirements.” EPA will address these changes in a separate action. Changes made to Rule 391-3-1-.01(llll), “Volatile Organic Compounds,” in the July 25, 2014, submittal were approved by EPA on October 5, 2016. See 81 FR 68936. Changes made to Rule 391-3-1-.01(nnnn), “Procedures for Testing and Monitoring Sources of Air Pollution,” in the July 25, 2014, submittal were approved by EPA in a rulemaking published on January 5, 2017. See 82 FR 1206.

B. Summary of Actions for South Carolina SIP Revisions

EPA is taking direct final action to approve portions of the December 15, 2014, submittal, a portion of the August 12, 2015, submittal, and a portion of the November 4, 2016, submittal amending South Carolina's regulations to incorporate the updated 2010 SO2 NAAQS, 2010 NO2 NAAQS, 2012 PM2.5 NAAQS, and 2015 ozone NAAQS, while removing the revoked 1997 8-hour ozone NAAQS and removing a non-CAP standard (gaseous fluorides) from the South Carolina rule.

EPA is not acting on certain changes to South Carolina's SIP included in the December 15, 2014, submittal, which would have removed the annual SO2 standard of 0.03 parts per million (ppm) and the 24-hour standard of 0.14 ppm, because the State's request to remove these standards from the SIP was withdrawn from EPA consideration by the State in a letter dated December 20, 2016. In accordance with 40 CFR 50.4(e), the annual and 24-hour standards are still applicable in South Carolina because designations for the 2010 1-hour NAAQS have not been completed in the State. Once designations are completed in the State for the 2010 1-hour SO2 NAAQS, the annual SO2 and 24-hour SO2 NAAQS will be revoked for the State one year after the effective date of the final designation. The December 20, 2016, withdrawal letter is included in the docket for this action.

EPA is also not acting on the following changes to South Carolina's SIP included in the August 12, 2015, submittal at this time: Regulation 61-62.5, Standard No. 1—“Emissions from Fuel Burning Operations”; Regulation 61-62.5, Standard No. 7—“Prevention of Significant Deterioration”; or Regulation 61-62.5, Standard No. 7.1—“Nonattainment New Source Review (NSR).” EPA will address these changes in a separate action.

The SIP submittals amending Georgia's and South Carolina's rules to incorporate the NAAQS and related provisions can be found in the docket for this rulemaking at www.regulations.gov and are summarized below.

II. Analysis of State's Submittals

A. GA EPD Rule 391-3-1-.02(4)—“Ambient Air Standards”

On November 12, 2008 (73 FR 66964), EPA revised the primary lead NAAQS from 1.5 micrograms per cubic meter (µg/m³) to 0.15 µg/m³ based on a rolling 3-month average for both the primary and secondary standards. Georgia revised Rule 391-3-1-.02(4)(f), “Lead,” via an August 30, 2010,¹ SIP submission, to update the standard for lead from 1.5 µg/m³ to 0.15 µg/m³. EPA approved this revision in a May 16, 2013 (78 FR 28744), direct final rule, which became effective on July 15, 2013. However, the method of calculating the corresponding design value for the 2008 lead NAAQS was not updated in Georgia's SIP. The 2008 lead NAAQS revised the method of calculating the corresponding design value to a rolling 3-month average over a 3-year period, whereas the previous NAAQS used calendar quarter averages over a 3-year period. On July 25, 2014, GA EPD submitted another revision to 391-3-1-.02(4)(f) to revise the form of the standard (i.e., the method of calculating the design value) to match that of the 2008 lead NAAQS. This SIP revision also adds a statement that attainment will be determined in accordance with federal standards at 40 CFR 50.16 (“National primary and secondary ambient air quality standards for lead”). EPA has determined that this is consistent with federal standards and provisions related to the lead NAAQS and is therefore approving this portion of the July 25, 2014, SIP submittal revising the Georgia SIP. These changes became state effective on August 1, 2013.

¹ GA EPD submitted three separate SIP submittals to EPA dated August 30, 2010. The August 30, 2010, SIP submittal that EPA is acting on in this direct final action, related to definitions at Rule 391-3-1-.01 (see section II.B. below), is not the same submittal referred to here that originally revised the lead NAAQS.

B. GA EPD Rule 391-3-1-.01—“Definitions”

Georgia is adopting a definition for “ `PM2.5 ' or `Fine Particulate Matter' ” at Rule 391-3-.01(rrrr) and a definition for “PM2.5 emissions” at Rule 391-3-1-.01(ssss). GA EPD is adopting definitions related to PM2.5 to reflect federal definitions at 40 CFR 53.1 and 40 CFR 51.100. Specifically, PM2.5 is defined in the CFR as “particulate matter with an aerodynamic diameter less than or equal to a nominal 2.5 micrometers as measured by a reference method based on appendix L of part 50 of this chapter and designated in accordance with part 53 of this chapter, by an equivalent method designated in accordance with part 53 of this chapter.” Georgia's definition is consistent with the federal definition.

“PM2.5 emissions” is not specifically written out in the CFR, but “PM10 emissions” is defined at 40 CFR 51.100(rr) as “finely divided solid or liquid material, with an aerodynamic diameter less than or equal to a nominal 10 micrometers emitted to the ambient air as measured by an applicable reference method, or an equivalent or alternative method, specified in this chapter or by a test method specified in an approved State implementation plan.” Georgia's SIP definition for “PM2.5 emissions” is consistent with the form of the definition for “PM10 emissions” at 40 CFR 51.100(rr), substituting only that “PM2.5 emissions” correspond to an aerodynamic diameter less than or equal to 2.5 micrometers.

EPA is approving the aforementioned changes to Rule 391-3-1-.01 into the SIP to provide consistency with the federal definitions related to CAPs. These rule changes became state effective on April 12, 2009.

C. SC DHEC Regulation 61-62.5, Standard No. 2, “Ambient Air Quality Standards”

1. SO2

On June 22, 2010 (75 FR 35520), EPA published a revision to the primary NAAQS for SO2, setting the standard at 75 parts per billion (ppb) and changing the form of the standard from 24-hour and annual to a 1-hour standard. Accordingly, in the December 15, 2014, SIP submission, South Carolina updated Regulation 61-62.5, Standard No. 2, “Ambient Air Quality Standards,” to adopt the new primary 1-hour SO2 NAAQS to be consistent with EPA's June 22, 2010, final rule. EPA is approving South Carolina's update to 61-62.5 regarding only the incorporation of the 2010 1-hour SO2 NAAQS because this change is consistent with federal regulations. As explained in Section I, EPA is not acting on the removal of the annual or 24-hour SO2 NAAQS because these changes were withdrawn from EPA consideration in a letter dated December 20, 2016. This change to incorporate the new 2010 1-hour SO2 NAAQS became state effective on September 26, 2014.

2. NO2

On February 9, 2010 (75 FR 6474), EPA published a revision to the primary NAAQS for NO2, adding a 1-hour primary standard set at 100 ppb and retaining the existing annual standard set at 53 ppb. Accordingly, in the December 15, 2014, SIP submission, South Carolina updated Regulation 61-62.5, Standard No. 2, “Ambient Air Quality Standards,” to adopt the new primary 1-hour NO2 NAAQS to be consistent with EPA's February 9, 2010, final rule. EPA is approving South Carolina's update to 61-62.5 regarding NO2 because this change is consistent with federal regulations. This change became state effective on September 26, 2014.

3. PM2.5

On December 14, 2012 (78 FR 3086), EPA published a revised primary annual PM2.5 NAAQS. In that action, EPA revised the primary annual PM2.5 standard, strengthening it from 15.0 μg/m³ to 12.0 μg/m³, and retained the existing primary 24-hour PM2.5 standard at 35 μg/m³. The December 14, 2012, final rule also retained the secondary 24-hour standard of 35 μg/m³ and the secondary annual standard of 15.0 μg/m³, revising only the form of the secondary annual standard to remove the option for spatial averaging, consistent with the form change to the primary annual PM2.5 standard. Accordingly, in the December 15, 2014, SIP submittal, South Carolina revised Regulation 61-62.5, Standard No. 2, “Ambient Air Quality Standards,” to update the primary air quality standard for PM2.5 to be consistent with the NAAQS that were promulgated by EPA in 2012. South Carolina's December 15, 2014, SIP revision also retains the ambient air standards corresponding to the secondary annual and 24-hour NAAQS.² EPA has reviewed these changes to South Carolina's rule for ambient air standards and has made the determination that this change is consistent with federal regulations. These changes became state effective on September 26, 2014.

² South Carolina's December 15, 2014, SIP revision appears to incorporate the 24-hour and annual secondary PM2.5 NAAQS for the first time. However, these secondary PM2.5 NAAQS were already approved into the SIP. The annual secondary PM2.5 NAAQS of 15 μg/m³ was adopted in a November 19, 2004, submittal and approved on August 22, 2007 (72 FR 46903). The 24-hour secondary NAAQS at 35 μg/m³ was adopted in a December 4, 2008, submittal and approved on April 3, 2013 (78 FR 19994).

4. Ozone

Regulation 61-62.5, Standard No. 2, “Ambient Air Quality Standards.” EPA published a revised primary 8-hour ozone NAAQS on October 26, 2015 (80 FR 65292). In that action, EPA strengthened the ozone NAAQS from 0.075 parts per million (ppm), as promulgated in 2008, to 0.070 parts per million (ppm). Accordingly, South Carolina's November 4, 2016, SIP submittal adopts the 2015 NAAQS at Regulation 61-62.5, Standard No. 2, “Ambient Air Quality Standards.” The submittal also removes the 1997 8-hour ozone NAAQS from the SIP. EPA revoked the 1997 8-hour ozone standard of 0.08 ppm with the March 6, 2015, final rule implementing the 2008 8-hour ozone NAAQS. See 80 FR 12264. The March 6, 2015, final rule, including the revocation of the 1997 8-hour ozone NAAQS, became effective on April 6, 2015. EPA is approving the incorporation of the 2015 8-hour ozone NAAQS into the South Carolina SIP, and the removal of the revoked 1997 8-hour ozone NAAQS from the South Carolina SIP, because the changes are consistent with federal regulations. These changes became state effective on September 23, 2016.

5. Hazardous Air Pollutants (HAPs)

South Carolina's August 12, 2015, SIP submittal removes the standards set for gaseous fluorides (as hydrogen fluoride) from Regulation 61-62.5, Standard No. 2, “Ambient Air Quality Standards.” Hydrogen fluoride is a HAP, which SC DHEC regulates under its state rule at Regulation 61-62.5, Standard No. 8, “Toxic Air Pollutants,” rather than the SIP. EPA is approving the removal of these standards from the South Carolina SIP, as there are no primary or secondary NAAQS related to this pollutant and the revision therefore will not interfere with any applicable requirement concerning attainment or reasonable further progress pursuant to CAA section 110(l). These changes became state effective on June 26, 2015.

III. Incorporation by Reference

In this rule, EPA is finalizing regulatory text that includes incorporation by reference. In accordance with requirements of 1 CFR 51.5, EPA is finalizing the incorporation by reference of GA EPD Rule 391-3-1-.01, “Definitions,” adding definitions of “PM2.5” and “PM2.5 Emissions,” effective August 14, 2016 and Rule 391-3-1-.02(4), “Ambient Air Standards,” updating the incorporation of the lead NAAQS, effective October 14, 2014; ³ EPA is finalizing the incorporation by reference of SC DHEC Regulation 61-62.5, Standard No. 2, “Ambient Air Quality Standards,” effective September 23, 2016, adopting NAAQS for SO2, NO2, and PM2.5, while removing a HAP standard from the SIP. Therefore, these materials have been approved by EPA for inclusion in the State implementation plan, have been incorporated by reference by EPA into that plan, are fully federally enforceable under sections 110 and 113 of the CAA as of the effective date of the final rulemaking of EPA's approval, and will be incorporated by reference by the Director of the Federal Register in the next update to the SIP compilation.⁴ EPA has made, and will continue to make, these materials generally available through www.regulations.gov and/or at the EPA Region 4 Office (please contact the person identified in the For Further Information Contact section of this preamble for more information).

³ The effective date of the change to Rule 391-3-1-.01 made in Georgia's August 30, 2010, SIP revision is April 12, 2009. However, for purposes of the state effective date included at 40 CFR 52.570(c), that change to Georgia's rule is captured and superseded by Georgia's update in a November 29, 2016, SIP revision, state effective on August 14, 2016, which EPA previously approved on January 5, 2017. See 82 FR 1207. The effective date of the change to Rule 391-3-1-.01 made in Georgia's July 25, 2014, SIP revision is August 1, 2013. However, for purposes of the state effective date included at 40 CFR 52.570(c), that change to Georgia's rule is captured and superseded by Georgia's update in a November 12, 2014, SIP revision, state effective on October 14, 2014, which EPA previously approved on July 31, 2015. See 80 FR 45609.

⁴ 62 FR 27968 (May 22, 1997).

IV. Final Action

EPA is approving changes to the Georgia SIP at Rule 391-3-1-.01, submitted on August 30, 2010, and changes to Rule 391-3-1-02(4), submitted on July 25, 2014, because they are consistent with the CAA and federal regulations. EPA is also approving changes to the South Carolina SIP at Regulation 61-62.5, Standard No. 2, submitted on December 15, 2014, and subsequently August 12, 2015, because they are consistent with the CAA and federal regulations. EPA is publishing this rule without prior proposal because the Agency views these submittals as noncontroversial and anticipates no adverse comments. However, in the proposed rules section of this Federal Register publication, EPA is publishing a separate document that will serve as the proposal to approve the SIP revision should adverse comments be filed. This rule will be effective August 28, 2017 without further notice unless the Agency receives adverse comments by July 31, 2017.

If EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on August 28, 2017 and no further action will be taken on the proposed rule. Please note that if we receive adverse comment on an amendment, paragraph, or section of this rule and if that provision may be severed from the remainder of the rule, we may adopt as final those provisions of the rule that are not the subject of an adverse comment.

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, these actions merely approve state law as meeting federal requirements and does not impose additional requirements beyond those imposed by state law. For that reason, these actions:

• Are not a significant regulatory action subject to review by the Office of Management and Budget under Executive Orders 12866 (58 FR 51735, October 4, 1993) and 13563 (76 FR 3821, January 21, 2011);

• do not impose an information collection burden under the provisions of the Paperwork Reduction Act (44 U.S.C. 3501 et seq.);

• are certified as not having a significant economic impact on a substantial number of small entities under the Regulatory Flexibility Act (5 U.S.C. 601 et seq.);

• do not contain any unfunded mandate or significantly or uniquely affect small governments, as described in the Unfunded Mandates Reform Act of 1995 (Public Law 104-4);

• do not have Federalism implications as specified in Executive Order 13132 (64 FR 43255, August 10, 1999);

• are not an economically significant regulatory action based on health or safety risks subject to Executive Order 13045 (62 FR 19885, April 23, 1997);

• are not a significant regulatory action subject to Executive Order 13211 (66 FR 28355, May 22, 2001);

• are not subject to requirements of Section 12(d) of the National Technology Transfer and Advancement Act of 1995 (15 U.S.C. 272 note) because application of those requirements would be inconsistent with the CAA; and

• do not provide EPA with the discretionary authority to address, as appropriate, disproportionate human health or environmental effects, using practicable and legally permissible methods, under Executive Order 12898 (59 FR 7629, February 16, 1994).

EPA has determined that this direct final rule does not have tribal implications as specified by Executive Order 13175 (65 FR 67249, November 9, 2000), because the determination does not have “substantial direct effects” on an Indian Tribe as a result of these actions. With respect to this direct final action as it relates to South Carolina, EPA notes that the Catawba Indian Nation Reservation is located within the South Carolina and pursuant to the Catawba Indian Claims Settlement Act, S.C. Code Ann. 27-16-120, “all state and local environmental laws and regulations apply to the [Catawba Indian Nation] and Reservation and are fully enforceable by all relevant state and local agencies and authorities.” EPA notes these actions will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 28, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of this Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Incorporation by reference, Lead, Nitrogen dioxide, Particulate matter, Sulfur oxides.

Dated: June 13, 2017.
V. Anne Heard,
Acting Regional Administrator, Region 4.

40 CFR part 52 is amended as follows:

PART 52—APPROVAL AND PROMULGATION OF IMPLEMENTATION PLANS

1. The authority citation for part 52 continues to read as follows:

Authority: 42 U.S.C. 7401 et seq.

Subpart L—Georgia

2. Section 52.570(c) is amended by revising the entries for “391-3-1-.01” and “391-3-1-.02(4)” to read as follows:

§ 52.570 Identification of plan.

* * * * *

(c) * * *

EPA Approved Georgia Regulations
State citation | Title/subject | State effective date | EPA approval date | Explanation
391-3-1-.01 | Definitions | 8/14/2016 | 6/29/2017, [Insert citation of publication] |
* * * * * * *
391-3-1-.02(4) | Ambient Air Standards | 10/14/2014 | 7/31/2015, 80 FR 45609 | EPA approved changes to Rule 391-3-1-.02(4) with state effective date August 1, 2013 on June 29, 2017 [Insert citation of publication]
* * * * * * *

* * * * *

Subpart PP—South Carolina

3. Section 52.2120(c), is amended by revising the entry under “Regulation No. 62.5” for “Standard No. 2” to read as follows:

§ 52.2120 Identification of plan.

* * * * *

(c) * * *

Air Pollution Control Regulations for South Carolina
State citation | Title/subject | State effective date | EPA approval date | Federal Register notice
* * * * * * *
Standard No. 2 | Ambient Air Quality Standards | 9/23/2016 | 6/29/2017 | [Insert citation of publication]
* * * * * * *

* * * * *

[FR Doc. 2017-13543 Filed 6-28-17; 8:45 am]

BILLING CODE 6560-50-P